JUDICIAL CONFERENCE OF THE UNITED STATES

Advisory Committee on Civil Rules; Meeting of the Judicial Conference

AGENCY: Judicial Conference of the United States.

ACTION: Advisory Committee on Civil Rules; Notice of cancellation of open hearing.

SUMMARY: The following virtual public hearing on proposed amendments to the Federal Rules of Civil Procedure has been canceled: Civil Rules Hearing on January 6, 2022. The announcement for this hearing was previously published in the Federal Register on August 11, 2021.

DATES: January 6, 2022.

FOR FURTHER INFORMATION CONTACT: Bridget Healy, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: December 7, 2021.
Shelly L. Cox,
Management Analyst, Rules Committee Staff.

[FR Doc. 2021-26868 Filed 12-10-21; 8:45 am]

BILLING CODE 2210-55-P